DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Arizona:
Maricopa (FEMA Docket No.: B-1826) | City of Avondale (17-09-2069P) | The Honorable Kenneth N. Weise, Mayor, City of Avondale, 11465 West Civic Center Drive, Avondale, AZ 85323 | Development & Engineering Services Department, 11465 West Civic Center Drive, Avondale, AZ 85323 | Jul. 27, 2018 | 040038
Maricopa (FEMA Docket No.: B-1818) | City of Buckeye (17-09-1551P) | The Honorable Jackie A. Meck, Mayor, City of Buckeye, 530 East Monroe Avenue, Buckeye, AZ 85326 | Engineering Department, 530 East Monroe Avenue, Buckeye, AZ 85326 | Jun. 22, 2018 | 040039
Maricopa (FEMA Docket No.: B-1826) | City of Glendale (17-09-2330P) | The Honorable Jerry Weiers, Mayor, City of Glendale, 5850 West Glendale Avenue, Glendale, AZ 85301 | City Hall, 5850 West Glendale Avenue, Glendale, AZ 85301 | Aug. 3, 2018 | 040045
Maricopa (FEMA Docket No.: B-1822) | City of Glendale (17-09-2397P) | The Honorable Jerry Weiers, Mayor, City of Glendale, 5850 West Glendale Avenue, Glendale, AZ 85301 | City Hall, 5850 West Glendale Avenue, Glendale, AZ 85301 | Jul. 20, 2018 | 040045
Maricopa (FEMA Docket No.: B-1822) | City of Phoenix (17-09-2397P) | The Honorable Greg Stanton, Mayor, City of Phoenix, City Hall, 200 West Washington Street, Phoenix, AZ 85003 | Street Transportation Department, 200 West Washington Street, 5th Floor, Phoenix, AZ 85003 | Jul. 20, 2018 | 040051
Maricopa (FEMA Docket No.: B-1818) | City of Phoenix (18-09-0275P) | The Honorable Greg Stanton, Mayor, City of Phoenix, 200 West Washington Street, 11th Floor, Phoenix, AZ 85003 | Street Transportation Department, 200 West Washington Street, 5th Floor, Phoenix, AZ 85003 | Jun. 15, 2018 | 040051
Maricopa (FEMA Docket No.: B-1826) | Unincorporated Areas of Maricopa County (17-09-2069P) | The Honorable Steve Chucri, Chairman, Board of Supervisors, Maricopa County, 301 West Jefferson Street, 10th Floor, Phoenix, AZ 85003 | Flood Control District of Maricopa County, 2801 West Durango Street, Phoenix, AZ 85009 | Jul. 27, 2018 | 040037
Maricopa (FEMA Docket No.: B-1826) | Unincorporated Areas of Maricopa County (17-09-2330P) | The Honorable Steve Chucri, Chairman, Board of Supervisors, Maricopa County, 301 West Jefferson Street, 10th Floor, Phoenix, AZ 85003 | Flood Control District of Maricopa County, 2801 West Durango Street, Phoenix, AZ 85009 | Aug. 3, 2018 | 040037
Maricopa (FEMA Docket No.: B-1822) | Unincorporated Areas of Maricopa County (17-09-2397P) | The Honorable Steve Chucri, Chairman, Board of Supervisors, Maricopa County, 301 West Jefferson Street, 10th Floor, Phoenix, AZ 85003 | Flood Control District of Maricopa County, 2801 West Durango Street, Phoenix, AZ 85009 | Jul. 20, 2018 | 040037
Pinal (FEMA Docket No.: B-1822) | City of Casa Grande (17-09-0587P) | The Honorable Craig McFarland, Mayor, City of Casa Grande, 510 East Florence Boulevard, Casa Grande, AZ 85122 | Department of Planning and Development, 510 East Florence Boulevard, Casa Grande, AZ 85122 | Jul. 13, 2018 | 040080
Pinal (FEMA Docket No.: B-1822) | City of Eloy (17-09-0587P) | The Honorable Joel G. Belloc, Mayor, City of Eloy, City Hall, 628 North Main Street, Eloy, AZ 85131 | Department of Public Works, 1137 West Houser Road, Eloy, AZ 85131 | Jul. 13, 2018 | 040083
Pinal (FEMA Docket No.: B-1822) | Unincorporated Areas of Pinal County (17-09-0587P) | The Honorable Todd House, Chairman, Board of Supervisors, Pinal County, P.O. Box 827, Florence, AZ 85132 | Pinal County Public Works Department, 31 North Pinal Street, Building F, Florence, AZ 85132 | Jul. 13, 2018 | 040077
California:
Kern (FEMA Docket No.: B-1826) | City of Delano (18-09-0302P) | The Honorable Grace Vallejo, Mayor, City of Delano, P.O. Box 3010, Delano, CA 93216 | Community Development, 1015 11th Avenue, Delano, CA 93215 | Aug. 3, 2018 | 060078
Monterey (FEMA Docket No.: B-1822) | City of Salinas (18-09-0131P) | The Honorable Joe Gunter, Mayor, City of Salinas, 200 Lincoln Avenue, Salinas, CA 93901 | Department of Public Works, 200 Lincoln Avenue, Salinas, CA 93901 | Jul. 23, 2018 | 060202
Orange (FEMA Docket No.: B-1822) | City of Lake Forest (17-09-1011P) | The Honorable Scott Voigts, Mayor, City of Lake Forest, 25550 Commercentre Drive, Suite 100, Lake Forest, CA 92630 | City Hall, 25550 Commercentre Drive, Suite 100, Lake Forest, CA 92630 | Jul. 16, 2018 | 060759
Riverside (FEMA Docket No.: B-1818) | Unincorporated Areas of Riverside County (18-09-0328P) | The Honorable Chuck Washington, Chairman, Board of Supervisors, Riverside County, 4080 Lemon Street, 5th Floor, Riverside, CA 92501 | Riverside County, Flood Control and Water Conservation District, 1995 Market Street, Riverside, CA 92501 | Jun. 25, 2018 | 060245
Sacramento (FEMA Docket No.: B-1818) | Unincorporated Areas of Sacramento County (17-09-2390P) | The Honorable Susan Peters, Chair, Board of Supervisors, Sacramento County, 700 H Street, Suite 2450, Sacramento, CA 95814 | Sacramento County, Department of Water Resources, 827 7th Street, Suite 301, Sacramento, CA 95814 | Jul. 2, 2018 | 060262
San Diego (FEMA Docket No.: B-1818) | City of Oceanside (17-09-0571P) | The Honorable Peter Weiss, Mayor, City of Oceanside, 300 North Coast Highway, Oceanside, CA 92054 | City Hall, 300 North Coast Highway, Oceanside, CA 92054 | Jul. 3, 2018 | 060294
San Joaquin (FEMA Docket No.: B-1822) | City of Lathrop (18-09-0365P) | The Honorable Sonny Dhaliwal, Mayor, City of Lathrop, 390 Town Center Drive, Lathrop, CA 95330 | City Hall, 390 Town Center Drive, Lathrop, CA 95330 | Jul. 9, 2018 | 060738
Santa Barbara (FEMA Docket No.: B-1826) | City of Carpinteria (17-09-1980P) | The Honorable Fred Shaw, Mayor, City of Carpinteria, 5775 Carpinteria Avenue, Carpinteria, CA 93013 | Public Works Department, 5775 Carpinteria Avenue, Carpinteria, CA 93013 | Jul. 20, 2018 | 060332
Santa Barbara (FEMA Docket No.: B-1826) | Unincorporated Areas of Santa Barbara County (17-09-1980P) | The Honorable Das Williams, Chairman, Board of Supervisors, Santa Barbara County, 105 East Anapamu Street 4th Floor, Santa Barbara, CA 93101 | Santa Barbara County Public Works Department, Water Resources Division, 130 East Victoria Street, Santa Barbara, CA 93101 | Jul. 20, 2018 | 060331
Sonoma (FEMA Docket No.: B-1822) | City of Rohnert Park (17-09-1348P) | The Honorable Pam Stafford, Mayor, City of Rohnert Park, 130 Avram Avenue, Rohnert Park, CA 94928 | City Hall, 130 Avram Avenue, Rohnert Park, CA 94928 | Jul. 16, 2018 | 060380
Stanislaus (FEMA Docket No.: B-1826) | City of Patterson (17-09-2636P) | The Honorable Deborah M. Novelli, Mayor, City of Patterson, 1 Plaza, 1st Floor, Patterson, CA 95363 | Department of Public Works, 33 South Del Puerto Avenue, Patterson, CA 95363 | Aug. 3, 2018 | 060390
Florida:
Duval (FEMA Docket No.: B-1818) | City of Jacksonville (17-04-4852P) | The Honorable Lenny Curry, Mayor, City of Jacksonville, 117 West Duval Street, Suite 400, Jacksonville, FL 32202 | City Hall, 117 West Duval Street, Jacksonville, FL 32202 | Jun. 15, 2018 | 120077
Nassau (FEMA Docket No.: B-1822) | Unincorporated Areas of Nassau County (18-04-1755P) | The Honorable Pat Edwards, Chairman, Board of Commissioners, Nassau County, 96135 Nassau Place, Suite One, Yulee, FL 32097 | Nassau County Building Department, 96161 Nassau Place, Yulee, FL 32097 | Jul. 13, 2018 | 120170
Illinois:
Adams (FEMA Docket No.: B-1826) | City of Quincy (17-05-6103P) | The Honorable Kyle A. Moore, Mayor, City of Quincy, 730 Maine Street, Quincy, IL 62301 | City Hall, 730 Maine Street, Quincy, IL 62301 | Jul. 24, 2018 | 170003
Adams (FEMA Docket No.: B-1826) | Unincorporated Areas of Adams County (17-05-6103P) | The Honorable Les Post, Chairman, Adams County Board, Adams County Courthouse, 101 North 54th Street, Quincy, IL 62305 | Adams County Courthouse, 101 North 54th Street, Quincy, IL 62305 | Jul. 24, 2018 | 170001
McHenry (FEMA Docket No.: B-1812) | Unincorporated Areas of McHenry County (18-05-2003P) | The Honorable Jack D. Franks, Chairman, McHenry County Board, County Government Center, 2200 North Seminary Avenue, Woodstock, IL 60098 | McHenry County Government Center, 2200 North Seminary Avenue, Woodstock, IL 60098 | Jun. 14, 2018 | 170732
McHenry (FEMA Docket No.: B-1812) | Village of Port Barrington (18-05-2003P) | The Honorable Shannon Yeaton, Village President, Village of Port Barrington, 69 South Circle Avenue, Port Barrington, IL 60010 | Village Hall, 69 South Circle Avenue, Port Barrington, IL 60010 | Jun. 14, 2018 | 170478
Indiana:
Allen (FEMA Docket No.: B-1826) | Unincorporated Areas of Allen County (17-05-6157P) | The Honorable Therese M. Brown, President, Allen County Board of Commissioners, Citizens Square, 200 East Berry Street Suite 410, Fort Wayne, IN 46802 | Allen County Department of Planning Services, 200 East Berry Street, Suite 150, Fort Wayne, IN 46802 | Jul. 27, 2018 | 180302
DeKalb (FEMA Docket No.: B-1826) | Unincorporated Areas of DeKalb County (17-05-6157P) | The Honorable Donald D. Grogg, President, DeKalb County Board of County Commissioners, 100 South Main Street Courthouse, Auburn, IN 46706 | DeKalb County Planning Commission, 301 South Union Street, Auburn, IN 46706 | Jul. 27, 2018 | 180044
Minnesota:
Clay (FEMA Docket No.: B-1818) | City of Moorhead (17-05-3618P) | The Honorable Del Rae Williams, Mayor, City of Moorhead, 500 Center Avenue, Moorhead, MN 56561 | City Hall, 500 Center Avenue, Moorhead, MN 56561 | Jun. 15, 2018 | 275244
Clay (FEMA Docket No.: B-1818) | Unincorporated Areas of Clay County (17-05-3618P) | The Honorable Kevin Campbell, Chairman, Board of Commissioners, Clay County, 807 11th Street North, Moorhead, MN 56560 | Clay County Courthouse, 807 11th Street North, Moorhead, MN 56560 | Jun. 15, 2018 | 275235
Hennepin (FEMA Docket No.: B-1822) | City of Minnetrista (16-05-6914P) | The Honorable Lisa Whalen, Mayor, City of Minnetrista, 7701 County Road, 110 West, Minnetrista, MN 55364 | City Hall, 7701 County Road, 110 West, Minnetrista, MN 55364 | Jul. 9, 2018 | 270175
Hennepin (FEMA Docket No.: B-1822) | City of Orono (16-05-6913P) | The Honorable Dennis Walsh, Mayor, City of Orono, P.O. Box 53, Crystal Bay, MN 55323 | City Hall, 2750 Kelley Parkway, Orono, MN 55356 | Jul. 9, 2018 | 270178
Hennepin (FEMA Docket No.: B-1822) | City of St. Bonifacius (16-05-6914P) | The Honorable Shawn Ruotsinoja, Mayor, City of St. Bonifacius, 8535 Kennedy Memorial Drive, St. Bonifacius, MN 55375 | City Hall, 8535 Kennedy Memorial Drive, St. Bonifacius, MN 55375 | Jul. 9, 2018 | 270183
Scott (FEMA Docket No.: B-1822) | City of Prior Lake (17-05-5335P) | The Honorable Kirt Briggs, Mayor, City of Prior Lake, 4646 Dakota Street Southeast, Prior Lake, MN 55372 | City Hall, 4646 Dakota Street Southeast, Prior Lake, MN 55372 | Jul. 9, 2018 | 270432
Missouri: Laclede (FEMA Docket No.: B-1818) | City of Lebanon (17-07-1875P) | The Honorable Jared Carr, Mayor, City of Lebanon, 401 South Jefferson Avenue, Lebanon, MO 65536 | City Hall, 400 South Madison Street, Lebanon, MO 65536 | Jun. 21, 2018 | 290197
Nebraska: Washington (FEMA Docket No.: B-1822) | City of Blair (17-07-2615P) | The Honorable James Realph, Mayor, City of Blair, 2532 College Drive, Blair, NE 68008 | City Hall, 218 South 16th Street, Blair, NE 68008 | Jul. 20, 2018 | 310228
Nevada:
Clark (FEMA Docket No.: B-1822) | Unincorporated Areas of Clark County (18-09-0452P) | The Honorable Steve Sisolak, Chairman, Board of Supervisors, Clark County, 500 South Grand Central Parkway, 6th Floor, Las Vegas, NV 89106 | Clark County, Office of the Director of Public Works, 500 South Grand Central Parkway, Las Vegas, NV 89155 | Jul. 10, 2018 | 320003
Storey (FEMA Docket No.: B-1818) | Unincorporated Areas of Storey County(16-09-2438P) | The Honorable Marshall McBride, Chairman, Board of Commissioners, Storey County, P.O. Box 176, Virginia City, NV 89440 | Storey County Courthouse, 26 South B Street, Virginia City, NV 89440 | Jun. 18, 2018 | 320033
Washoe (FEMA Docket No.: B-1826) | City of Reno (17-09-2191P) | The Honorable Hillary Schieve, Mayor, City of Reno, P.O. Box 1900, Reno, NV 89501 | City Hall Annex, 450 Sinclair Street, Reno, NV 89501 | Jul. 31, 2018 | 320020
Washoe (FEMA Docket No.: B-1818) | Unincorporated Areas of Washoe County (16-09-2438P) | The Honorable Bob Lucey, Chairman, Board of Commissioners, Washoe County, 1001 East 9th Street, Reno, NV 89512 | Washoe County Administration Building, Department of Public Works, 1001 East 9th Street, Reno, NV 89512 | Jun. 18, 2018 | 320019
Washoe (FEMA Docket No.: B-1826) | Unincorporated Areas of Washoe County (17-09-1858P) | The Honorable Marsha Berkbigler, Chair, Board of Commissioners, Washoe County, 1001 East 9th Street, Reno, NV 89512 | Washoe County Administration Building, Department of Public Works, 1001 East 9th Street, Reno, NV 89512 | Aug. 1, 2018 | 320019
Washoe (FEMA Docket No.: B-1822) | Unincorporated Areas of Washoe County (17-09-1979P) | The Honorable Marsha Berkbigler, Chair, Board of Commissioners, Washoe County, 1001 East 9th Street, Reno, NV 89512 | Washoe County Administration Building, Department of Public Works, 1001 East 9th Street, Reno, NV 89512 | Jul. 6, 2018 | 320019
Washoe (FEMA Docket No.: B-1826) | Unincorporated Areas of Washoe County (17-09-2191P) | The Honorable Marsha Berkbigler, Chair, Board of Commissioners, Washoe County, 1001 East 9th Street, Reno, NV 89512 | Washoe County Administration Building, Department of Public Works, 1001 East 9th Street, Reno, NV 89512 | Jul. 31, 2018 | 320019
New Jersey: Ocean (FEMA Docket No.: B-1826) | Borough of Point Pleasant Beach (18-02-0563P) | The Honorable Stephen D. Reid, Mayor, Borough of Point Pleasant Beach, 416 New Jersey Avenue, Point Pleasant Beach, NJ 08742 | Municipal Building, 416 New Jersey Avenue, Point Pleasant Beach, NJ 08742 | Jul. 27, 2018 | 340388
New York:
Erie (FEMA Docket No.: B-1818) | Town of Elma (17-02-0955P) | The Honorable Dennis Powers, Supervisor, Town of Elma, 1600 Bowen Road, Elma, NY 14059 | Town Hall, 1910 Bowen Road, Elma, NY 14059 | Jul. 19, 2018 | 360239
Erie (FEMA Docket No.: B-1818) | Town of Lancaster (17-02-0955P) | The Honorable Johanna M. Coleman, Board Supervisor, Town of Lancaster, 21 Central Avenue, Lancaster, NY 14086 | Building Inspector, 11 West Main Street, Lancaster, NY 14086 | Jul. 19, 2018 | 360249
Monroe (FEMA Docket No.: B-1818) | Town of Webster (17-02-1830P) | Mr. Ronald W. Nesbitt, Webster Town Supervisor, 1000 Ridge Road, Webster, NY 14580 | Town Hall, 1000 Ridge Road, Webster, NY 14580 | Aug. 2, 2018 | 360436
Ohio:
Franklin (FEMA Docket No.: B-1818) | City of Columbus (18-05-0919P) | The Honorable Michael B. Coleman, Mayor, City of Columbus, 90 West Broad Street, 2nd Floor, Columbus, OH 43215 | Department of Development, 757 Carolyn Avenue, Columbus, OH 43224 | Jun. 29, 2018 | 390170
Franklin (FEMA Docket No.: B-1818) | City of Grandview Heights (18-05-0919P) | The Honorable Ray E. DeGraw, Mayor, City of Grandview Heights, 1525 Goodale Boulevard, Grandview Heights, OH 43212 | Development Office, 1525 West Goodale Boulevard, Grandview Heights, OH 43212 | Jun. 29, 2018 | 390172
Hamilton (FEMA Docket No.: B-1822) | City of Harrison (17-05-5193P) | The Honorable William Neyer, Mayor, City of Harrison, P.O. Box 286, Harrison, OH 45030 | Community Center, 300 George Street, Harrison, OH 45030 | Jul. 10, 2018 | 390220
Oregon: Benton (FEMA Docket No.: B-1818) | Unincorporated Areas of Benton County (17-10-1169P) | Ms. Annabelle Jaramillo, Chair, Benton County Board of Commissioners, 205 Northwest 5th Street, Corvallis, OR 97339 | Benton County Sheriff's Office, 180 Northwest 5th, Avenue, Corvallis, OR 97333 | Jun. 29, 2018 | 410008
Wisconsin:
Juneau (FEMA Docket No.: B-1826) | Unincorporated Areas of Juneau County (17-05-4106P) | The Honorable Alan K. Peterson, Chairman, Juneau County Board of Supervisors, 220 East State Street, Mauston, WI 53948 | Juneau County Courthouse, 220 East State Street, Mauston, WI 53948 | Jul. 20, 2018 | 550580
Monroe (FEMA Docket No.: B-1826) | Unincorporated Areas of Monroe County (17-05-4106P) | The Honorable Cedric Schnitzler, Chair, Monroe County Board Committee, 202 South K Street, Room 1, Sparta, WI 54656 | Monroe County Sanitation and Zoning Office, 14307 County Highway B, Sparta, WI 54656 | Jul. 20, 2018 | 550571
Monroe (FEMA Docket No.: B-1826) | Village of Kendall (17-05-4106P) | The Honorable Richard Martin, President, Village of Kendall, P.O. Box 216, Kendall, WI 54638 | Village Hall, 219 West South Railroad Street, Kendall, WI 54638 | Jul. 20, 2018 | 550287
Waukesha (FEMA Docket No.: B-1822) | Unincorporated Areas of Waukesha County (18-05-2348X) | The Honorable Paul L. Decker, Waukesha County Board Chair, County Courthouse, 515 West Moreland Boulevard, Room C170 Waukesha, WI 53188 | Waukesha County Administrator Center, 515 West Moreland Boulevard, Waukesha, WI 53188 | Jul. 16, 2018 | 550476

[FR Doc. 2018-19338 Filed 9-5-18; 8:45 am]

BILLING CODE 9110-12-P